DEPARTMENT OF THE INTERIOR

National Park Service

Notice of Intent to Repatriate Cultural Items in the Possession of the Williamson Museum, Northwestern State University of Louisiana, Natchitoches, LA, and in the Control of the Louisiana Division of Archaeology, Baton Rouge, LA

AGENCY: National Park Service, Interior.

ACTION: Notice.

Notice is hereby given under the Native American Graves Protection and Repatriation Act, 43 CFR 10.10 (a)(3), of the intent to repatriate cultural items in the possession of the Williamson Museum, Northwestern State University of Louisiana, Natchitoches, LA, and in the control of the Louisiana Division of Archaeology, Baton Rouge, LA, that meet the definition of “unassociated funerary objects” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The one object from the Mill Creek site, Bienville Parish, LA, is a Maddox Engraved vessel.

This object was removed in 1960s, during archeological excavations conducted by Dr. Clarence H. Webb, who donated it to the Louisiana Division of Archaeology. In 1971, the object was transferred to the Williamson Museum.

Museum records indicate that this vessel was removed from a grave; no remains from the grave are held in the museum. Maddox Engraved pottery is dated to Caddo III-IV (A.D. 1200-1500) periods.

The two objects from the Allen Plantation site, Natchitoches Parish, LA, are one Hickory Engraved bottle and one bowl.

These objects were removed in 1935-41, during archeological excavations conducted by Dr. Clarence H. Webb, who donated them to the Louisiana Division of Archaeology. In 1979, the objects were transferred to the Williamson Museum.

Museum records and consultation with the Caddo Tribe identified these vessels as unassociated funerary objects. The objects were salvaged from a grave in a road cut; no remains from the grave are held in the museum. Typologically, these vessels fall into the Caddo I period (A.D. 900-1000), and are not associated with the nearby historic Allen Site.

The 53 objects from the Mounds Plantation site (16CD12), Caddo Parish, LA, are 50 cane mat fragments, 1 pottery jar, 1 bois d'arc wand/staff, and 1 bois d'arc fragment.

These objects were removed in the 1960s, during archeological excavations conducted by Dr. Clarence H. Webb, who donated them to the Louisiana Division of Archaeology. In 1979, the objects were transferred to the Williamson Museum.

The Mounds Plantation site is one of the earliest Caddoan ceremonial centers (circa A.D. 900-1000). The objects were found in a log tomb; no remains from the tomb are held in the museum. Consultation with the Caddo, supplemented by museum records, established that these were funerary objects.

Based on the above-mentioned information, officials of the Williamson Museum, Northwestern State University of Louisiana, and the Louisiana Division of Archaeology have determined that, pursuant to 43 CFR 10.2 (d)(2)(ii), these 56 cultural items are reasonably believed to have been placed with or near individual human remains at the time of death or later as part of the death rite or ceremony and are believed, by a preponderance of the evidence, to have been removed from specific burial sites of Native American individuals. Officials of the Williamson Museum, Northwestern State University of Louisiana, and the Louisiana Division of Archaeology also have determined that, pursuant to 43 CAR 10.2 (e), there is a relationship of shared group identity that can be reasonably traced between these unassociated funerary objects and the Caddo Indian Tribe of Oklahoma.

This notice has been sent to officials of the Caddo Indian Tribe of Oklahoma. Representatives of any other Indian tribe that believes itself to be culturally affiliated with these unassociated funerary objects should contact Dr. Pete Gregory, Director, Williamson Museum, Northwestern State University of Louisiana, Natchitoches, LA 71497, telephone (318) 357-8170, or Dr. Tom Eubanks, Louisiana Division of Archaeology, P.O. Box 44247, Baton Rouge, LA 70804, telephone (504) 342-8170, before July 23, 2001. Repatriation of these unassociated funerary objects to the Caddo Indian Tribe of Oklahoma may begin after that date if no additional claimants come forward.

Dated: May 25, 2001.
John Robbins,
Assistant Director, Cultural Resources Stewardship and Partnerships.

[FR Doc. 01-15561 Filed 6-20-01; 8:45 am]

BILLING CODE 4310-70-F